DEPARTMENT OF AGRICULTURE

Farm Service Agency

[Docket ID FSA-2023-0018]

Information Collection Requests; Generic Clearance for the Collection of Qualitative Customer Feedback on the Service Delivery (0560-0286)

AGENCY: Farm Service Agency, U.S. Department of Agriculture (USDA).

ACTION: Notice; request for comments.

SUMMARY: In accordance with the Paperwork Reduction Act (PRA), the Farm Production and Conservation (FPAC) is requesting comments from all interested individuals and organizations on an extension of a currently approved Generic Clearance for the Collection of Qualitative Customer Feedback on the Service Delivery (0560-0286). The Farm Service Agency (FSA) initially received the PRA approval for this information collection request and has expanded it to cover all four of the agencies in the U.S. Department of Agriculture (USDA) Farm Production and Conservation (FPAC) mission area. FPAC uses the approval to cover the surveys, window pop-up surveys, focus groups, beta testing new or revised electronic systems, comment cards, and other information collection instruments or methods, which are designed to get customer feedback on service delivery for various programs administered by any of the FPAC agencies. This request for approval broadly addresses the need for information about what our customers think of our services so that we can improve service delivery; specific information collection activities will be incorporated into the approval as the need for the information is identified. For example, when we implement a new program and provide information about the services for the program on our website, we may provide a voluntary customer service questionnaire about how well the program is working for our customers, specifically within the area of customer service.

DATES: We will consider comments that we receive by November 20, 2023.

ADDRESSES: We invite you to submit comments on this notice. You may submit comments through the Federal eRulemaking Portal by going to http://www.regulations.gov and searching for Docket ID FSA-2023-0018.

Comments will be available on http://www.regulations.gov.

FOR FURTHER INFORMATION CONTACT: Mary Ann Ball, (202) 205-5851, maryann.ball@usda.gov. Individuals who require alternative means of communication should contact the USDA TARGET Center at (202) 720-2600 (voice and text telephone (TTY)) or dial 711 for Telecommunications Relay Service (both voice and text telephone users can initiate this call from any telephone).

SUPPLEMENTARY INFORMATION:

Title: Generic Clearance for the Collection of Qualitative Customer Feedback on Farm Service Agency Service Delivery (FastTrack).

OMB Control Number: 0560-0286.

Expiration Date of Approval: January 31, 2024.

Type of Request: Extension.

Abstract: FSA initially received the PRA approval for this information collection request and has expanded it to cover all of the agencies in the USDA FPAC mission area. FPAC includes the following four agencies: the FPAC Business Center, the Farm Service Agency (FSA), the National Resources Conservation Service (NRCS), and the Risk Management Agency (RMA). The program staff have created several feedback instruments (customer surveys) and submitted them to the FPAC information collection coordinator for approval under the current approved information collection of 0560-0286, Generic Clearance for the Collection of Qualitative Customer Feedback on Service Delivery. The program staff continue to use fast track approval to submit new customer instruments to the information collection coordinator for approval, which takes less time than going through a regular Paperwork Reduction Act process.

As a result, program staff are able to quickly implement certain types of surveys and related collection of information using OMB control number of 0560-0286. For example, when we implement a new program and provide information about the programs on our website, we may provide a voluntary customer service questionnaire about how well the program is working for our customers, specifically within the area of customer service.

The information collection provides a means to gather qualitative customer and stakeholder feedback in an efficient, timely manner that is consistent with the commitment to improving service delivery. By qualitative feedback, we mean information, generally from customers, that provides useful insights on perceptions and opinions based on experiences with service delivery from one of the FPAC agencies. Such information does not include statistical surveys that yield quantitative results that can be generalized to the population. The qualitative feedback will:

• Provide insights into customer or stakeholder perceptions, experiences, and expectations,

• Provide an early warning of issues with service, and

• Focus attention on areas where communication, training, or changes in operations might improve delivery of products or services.

The collection will allow for ongoing, collaborative, and actionable communication between the FPAC agencies and customers and stakeholders. It will also allow feedback to contribute directly to the improvement of program management. The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on FPAC agency services will be unavailable.

We will only submit a collection for approval under this generic clearance if it meets the following conditions:

• The collections are voluntary;

• The collections are low burden for respondents (based on considerations of total burden hours, total number of respondents, or burden hours per respondent) and are low-cost for both the respondents and the Federal Government;

• The collections are noncontroversial and do not raise issues of concern to other Federal agencies;

• The collections are targeted to the solicitation of opinions from respondents who have experience with the program or may have experience with the program in the near future;

• Personally identifiable information (PII) is collected only to the extent necessary and is not retained;

• Information gathered will be used only internally for general service improvement and program management purposes and is not intended for release outside of the FPAC agencies;

• Information gathered will not be used for the purpose of substantially informing influential policy decisions; and

• Information gathered will yield qualitative information; the collections will not be designed or expected to yield statistically reliable results or used as though the results are generalizable to the population of study.

As a general matter, information collections will not result in any new system of records containing privacy information and will not ask questions of a sensitive nature, such as religious beliefs, sexual behavior and attitudes, and other matters that are commonly considered private.

Additionally, we are including surveys, focus groups, webinars, and other information collection instruments to cover a beta testing or testing of a newly developed information system or online application for any FPAC Business Center, FSA, RMA, or NRCS programs to ensure it is meeting the customers' needs when applying for payments or benefits electronically. This will be an expansion of this information collection request and is being included to streamline the timing of our conversion from paper-based forms to encourage electronic submission of information.

There are no changes to the annual burden hours in this collection. For the following estimated total annual burden on respondents, the formula used to calculate the total burden hours is the estimated average time per response multiplied by the estimated total annual number of responses.

Estimate of Average Time to Respond: Public reporting burden for collecting information under this notice is estimated to average 11 minutes (0.17734 hours) per response, including the time for reviewing instructions, searching existing data sources, and completing and reviewing the collection of information. Specifically, it will be 10 minutes per customer feedback survey, 15 minutes per comment card, and 3 hours per focus group and for beta testing.

Respondents: Individuals and households; businesses; organizations; and State, local, or Tribal government.

Estimated Number of Respondents: 210,500.

Estimated Annual Number of Responses per Respondent: 1.

Estimated Total Annual Responses: 210,500.

Estimated Total Annual Burden Hours on Respondents: 37,333 hours.

Requesting Comments

We are requesting comments on all aspects of this information collection to help us to:

(1) Evaluate whether the collection of information is necessary for the proper performance of the functions of the FPAC agencies, including whether the information will have practical utility;

(2) Evaluate the accuracy of the estimate of burden including the validity of the methodology and assumptions used;

(3) Enhance the quality, utility and clarity of the information to be collected;

(4) Minimize the burden of the collection of information on those who are to respond, including the use of appropriate automated, electronic, mechanical, or other technological collection techniques or other forms of information technology.

All comments received in response to this notice, including names and addresses when provided, will be a matter of public record. Comments will be summarized and included in the submission for Office of Management and Budget approval.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://ww.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency.

[FR Doc. 2023-20210 Filed 9-18-23; 8:45 am]

BILLING CODE P